DEPARTMENT OF HOUSING AND URBAN DEVELOPMENT

[Docket No. FR-5752-N-67]

30-Day Notice of Proposed Information Collection: Jobs Plus Pilot Program

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: September 22, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on June 3, 2014.

A. Overview of Information Collection

Title of Information Collection: Jobs Plus Pilot Program.

OMB Approval Number: 2577-New.

Type of Request: New collection.

Form Number: Not Applicable.

Description of the need for the information and proposed use: The Jobs Plus Pilot Program Information Collection represents a new information request. The OMB approval number for this collection is pending. The information provided by the eligible applicants will be reviewed and evaluated by HUD. The information to be collected by HUD will be used to preliminarily rate applications, to determine eligibility for the Jobs Plus Pilot Grant Competition and to establish grant amounts. The Jobs Plus Pilot Grant Competition Application will be used to determine eligibility and funding for recipients. Respondents of this information collection will be public housing agencies. Forms for this information collection are under development, however it is anticipated that applicants will provide quantitative and qualitative data as well as narrative information for evaluation.

Information collection | Number of respondents | Responses per year | Total annual responses | Estimated burden hours per response | Total hours | Hourly cost | Annual cost
GRANT APPLICATION:
Abstract | 125 | 1 | 125 | 3 | 375 | $35.22 | $13,208
HUD-96011 Facsimile Transmittal | 125 | 1 | 125 | 0.5 | 62.5 | 35.22 | 2,201
SF-424 Application for Federal Assistance (2501-0017) | 125 | 1 | 125 | 0.75 | 93.75 | 35.22 | 3,302
HUD-424 CB (2501-0017)—Detailed Budget | 125 | 1 | 125 | 2.6 | 325 | 35.22 | 11,447
HUD-424 CBW-I (2501-0017) | 125 | 1 | 125 | 3.2 | 400 | 35.22 | 14,088
SF-LLL-Lobbying (0348-0046) | 125 | 1 | 125 | 0.17 | 21.25 | 35.22 | 748
HUD-2880 Applicant Disclosure (2510-0011) | 125 | 1 | 125 | 0 | 0 | 35.22 | 0
HUD-2991 Certification of Consistency with Consolidated Plan (2506-0112) | 125 | 1 | 125 | 0.17 | 21.25 | 35.22 | 748
HUD-2993 Acknowledgement of Application Receipt (2577-0259) | 125 | 1 | 125 | 0.5 | 62.5 | 35.22 | 2,201
HUD-96010 (2535-0114) Logic Model | 125 | 1 | 125 | 4.5 | 562.5 | 35.22 | 19,811
Rating Factor 1—Capacity | 125 | 1 | 125 | 14 | 1750 | 35.22 | 61,635
Rating Factor 2—Need | 125 | 1 | 125 | 7 | 875 | 35.22 | 30,818
Rating Factor 3—Soundness of Approach | 125 | 1 | 125 | 25 | 3125 | 35.22 | 110,063
Rating Factor 4—Leveraging | 125 | 1 | 125 | 7 | 875 | 35.22 | 30,818
Rating Factor 5—Program Assessment | 125 | 1 | 125 | 3 | 375 | 35.22 | 13,208
Total Application Submission w/Narratives | 125 | 1 | 125 | 71.39 | 8923.75 | 35.22 | 314,294
GRANT MANAGEMENT:
Quarterly/Semi/Annual Performance Reports (TBD) | 30 | 4 | 120 | 8 | 960 | 35.22 | 33,811
SF-425 Federal Financial Report (0348-0061) | 30 | 4 | 120 | 4 | 480 | 35.22 | 16,906
Total—Grant Management | 30 | 4 | 120 | 12 | 1440 | 35.22 | 50,717
MONITORING:
Field Office Monitoring Tool | 30 | 1 | 30 | 2 | 60 | 35.22 | 2,113
Total—Monitoring | 30 | 1 | 30 | 2 | 60 | 35.22 | 2,113
Total—Monitoring | 30 | 1 | 30 | 2 | 120 | 35.22 | 2,113
GRAND TOTALS | 125 | 4 | 125 | 94 | 10484 | 35.22 | 367,124

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: August 19, 2014.
Colette Pollard,
Department Reports Management Officer, Office of the Chief Information Officer.

[FR Doc. 2014-20047 Filed 8-21-14; 8:45 am]

BILLING CODE 4210-67-P